DEPARTMENT OF COMMERCE

International Trade Administration

[A-570-909]

Certain Steel Nails From the People's Republic of China: Final Results of Antidumping Duty Administrative Review and Final Determination of No Shipments; 2017-2018

AGENCY: Enforcement and Compliance, International Trade Administration, Department of Commerce.

SUMMARY: The Department of Commerce (Commerce) determines that certain steel nails (nails) from the People's Republic of China (China) were sold in the United States at less than normal value (NV) during the period of review (POR) August 1, 2017 through July 31, 2018.

DATES: Applicable April 22, 2020.

FOR FURTHER INFORMATION CONTACT: Annathea Cook or Benito Ballesteros, AD/CVD Operations, Office V, Enforcement and Compliance, International Trade Administration, U.S. Department of Commerce, 1401 Constitution Avenue NW, Washington, DC 20230; telephone: (202) 482-0250 or (202) 482-7425, respectively.

SUPPLEMENTARY INFORMATION:

Background

On October 18, 2019, Commerce published in the Federal Register the Preliminary Results of the administrative review of the antidumping duty order on nails from China.¹

¹ See Certain Steel Nails from the People's Republic of China: Preliminary Results of the Antidumping Duty Administrative Review and Preliminary Determination of No Shipments; 2017-2018, 84 FR 55906 (October 18, 2019) (Preliminary Results) and accompanying Preliminary Decision Memorandum.

In accordance with 19 CFR 351.309, we invited parties to comment on our Preliminary Results. On November 25, 2019, Shanxi Pioneer Hardware Industrial Co., Ltd. (Pioneer), Shanxi Hairui Trade Co., Ltd., SDC International Aust. Pty. Ltd., and S-Mart (Tianjin) Technology Development Co., Ltd. (collectively, Pioneer et al.),² Mid Continent Steel & Wire, Inc. (the petitioner),³ The Stanley Works (Langfang) Fastening Systems Co., Ltd. and Stanley Black & Decker, Inc. (Stanley B&D) (collectively, Stanley),⁴ and Building Material Distributors, Inc., Qingdao D&L Group Ltd., Shandong Qingyun Hongyi Hardware Products Co., Ltd., Dezhou Hualude Hardware Products Co., Ltd., and Mingguang Ruifeng Hardware Products Co., Ltd. (collectively Building Material Distributors et al.),⁵ submitted timely-filed case briefs. On December 9, 2019, Pioneer,⁶ the petitioner,⁷ and Stanley,⁸ submitted timely-filed rebuttal briefs.

² See Pioneer et al.'s Letter, “Certain Steel Nails from the People's Republic of China: Case Brief,” dated November 25, 2019.

³ See Petitioner's Letter, “Certain Steel Nails from the People's Republic of China: Case Brief, dated November 25, 2019.

⁴ See Stanley's Letter, “Certain Steel Nails from the People's Republic of China; Tenth Administrative Review; Case Brief of The Stanley Works (Langfang) Fastening Systems Co., Ltd and Stanley Black & Decker, Inc.,” dated November 25, 2019 .

⁵ See Building Material Distributors et al.'s Letter, “Certain Steel Nails from the People's Republic of China, 10th Administrative Review; Administrative Case Brief,” dated November 25, 2019.

⁶ See Pioneer's Letter, “Certain Steel Nails from the People's Republic of China: Rebuttal Case Brief,” dated December 9, 2019 (Pioneer Rebuttal).

⁷ See Petitioner's Letter, “Certain Steel Nails from the People's Republic of China: Rebuttal Brief,” dated December 9, 2019 (Petitioner Rebuttal).

⁸ See Stanley's Letter, “Certain Steel Nails from the People's Republic of China; Tenth Administrative Review; Rebuttal Brief of The Stanley Works (Langfang) Fastening Systems Co., Ltd and Stanley Black & Decker, Inc.,” dated December 9, 2019 (Stanley Rebuttal).

Scope of the Order

The merchandise covered by the order is nails from China. For a complete description of the scope of this order, see the Issues and Decision Memorandum.⁹

⁹ See Memorandum, “Certain Steel Nails from the People's Republic of China: Issues and Decision Memorandum for the Final Results of the 2017-18 Antidumping Duty Administrative Review,” dated April 15, 2020 (Issues and Decision Memorandum) which is hereby adopted by this notice.

Analysis of Comments Received

We addressed all issues raised in the case and rebuttal briefs filed by interested parties in the Issues and Decision Memorandum. Attached to this notice, in Appendix II, is a list of the issues which parties raised. The Issues and Decision Memorandum is a public document and is on file in the Central Records Unit (CRU), Room B8024 of the main Department of Commerce building, as well as electronically via Enforcement and Compliance's Antidumping and Countervailing Duty Centralized Electronic Service System (ACCESS). ACCESS is available to registered users at http://access.trade.gov. In addition, a complete version of the Issues and Decision Memorandum can be accessed directly on the internet at http://enforcement.trade.gov/frn/index.html. The signed Issues and Decision Memorandum and the electronic versions of the Issues and Decision Memorandum are identical in content.

Changes Since the Preliminary Results

Based on a review of the record and comments received from interested parties, and for the reasons explained in the Issues and Decision Memorandum, we are revising the margin calculations for Stanley and Pioneer. Accordingly, for these final results, Commerce updated the rate assigned to the non-selected companies, which is based on an average of the rates for the three mandatory respondents, Stanley, Pioneer, and Tianjin Universal Machinery Imp. & Exp. Corporation (Universal), as discussed in the Issues and Decision Memorandum. For a discussion of these changes, see the “Changes Since the Preliminary Results” section of the Issues and Decision Memorandum.

Final Determination of No Shipments

In the Preliminary Results, Commerce preliminarily determined that eleven companies did not have any reviewable transactions during the POR: Astrotech Steels Pvt. Ltd.; Geeky Wires Limited; Hebei Minmetals Co., Ltd.; Jinhai Hardware Co., Ltd.; Nanjing Yuechang Hardware Co., Ltd.; Region Industries Co., Ltd.; Region System Sdn. Bhd.; Shandong Oriental Cherry Hardware Group Co., Ltd.; Shandong Oriental Cherry Hardware Import & Export Co., Ltd.; Shanghai Jade Shuttle Hardware Tools Co., Ltd.; and Zhangjiagang Lianfeng Metals Products Co., Ltd. Following the publication of the Preliminary Results, we received no comments from interested parties regarding these companies, nor has any party submitted record evidence which would call our preliminary determination into question. Therefore, for these final results, we continue to find that these eleven companies did not have any reviewable transactions during the POR. Consistent with our practice, we will issue appropriate instructions to U.S. Customs and Border Protection (CBP) based on our final results.

Separate Rates

In the Preliminary Results, we determined that 20 companies, including the three mandatory respondents, met the criteria for separate rate status. We have not received any information since the issuance of the Preliminary Results that provides a basis for reconsidering this preliminary determination. Therefore, Commerce continues to find that these companies meet the criteria for a separate rate for the final results.

Rate for Non-Selected Companies

As noted above, for the final results, the dumping margins for two of the mandatory respondents have changed from the Preliminary Results. Accordingly, for the final results, Commerce has updated the rate assigned to the non-selected companies, which is based on an average of the rates of the three mandatory respondents, as discussed in the Issues and Decision Memorandum.

China-Wide Entity

In the Preliminary Results, we found that 182 companies for which a review was requested had not established eligibility for a separate rate and, thus, we considered them to be part of the China-wide entity.¹⁰ With one exception discussed in the Issues and Decision Memorandum (related to Stanley B&D),¹¹ we have not received any information since the issuance of the Preliminary Results that provides a basis for reconsidering this preliminary determination. Therefore, Commerce continues to find that these companies are part of the China-wide entity.¹²

¹⁰ See Preliminary Results at Appendix I.

¹¹ See Issues and Decision Memorandum at Comment 6.

¹² See Appendix I.

Final Results of Administrative Review

The weighted-average dumping margins for the administrative review are as follows:

Exporter/producer | Weighted-average dumping margin
Shanxi Pioneer Hardware Industrial Co., Ltd | 118.04
The Stanley Works (Langfang) Fastening Systems Co., Ltd. and Stanley Black & Decker, Inc | 2.11
Tianjin Universal Machinery Imp. & Exp. Corporation | 118.04
Dezhou Hualude Hardware Products Co., Ltd | 41.75
Hebei Cangzhou New Century Foreign Trade Co., Ltd | 41.75
Mingguang Ruifeng Hardware Products Co., Ltd | 41.75
Nanjing Caiqing Hardware Co., Ltd | 41.75
Qingdao D&L Group Ltd | 41.75
SDC International Aust. Pty. Ltd | 41.75
Shandong Qingyun Hongyi Hardware Products Co., Ltd | 41.75
Shanghai Curvet Hardware Products Co., Ltd | 41.75
Shanghai Yueda Nails Industry Co., Ltd. a.k.a Shanghai Yueda Nails Co., Ltd | 41.75
Shanxi Hairui Trade Co., Ltd | 41.75
Shanxi Tianli Industries Co., Ltd | 41.75
S-Mart (Tianjin) Technology Development Co., Ltd | 41.75
Suntec Industries Co., Ltd | 41.75
Tianjin Jinchi Metal Products Co., Ltd | 41.75
Tianjin Jinghai County Hongli Industry & Business Co., Ltd | 41.75
Tianjin Zhonglian Metals Ware Co., Ltd | 41.75
Xi'an Metals and Minerals Import & Export Co., Ltd | 41.75

Assessment Rates

Pursuant to section 751(a)(2)(A) of the Tariff Act of 1930, as amended (the Act), and 19 CFR 351.212(b), Commerce has determined, and CBP shall assess, antidumping duties on all appropriate entries of subject merchandise in accordance with the final results of this review. Commerce intends to issue appropriate assessment instructions directly to CBP 15 days after publication of the final results of this administrative review.

Stanley reported the entered value of its U.S. sales such that we calculated importer-specific ad valorem duty assessment rates based on the ratio of the total amount of dumping calculated for the importer's examined sales to the total entered value of those same sales. If an importer-specific assessment rate calculated in the final results is not zero or de minimis, Commerce will issue instructions directly to CBP to assess antidumping duties on appropriate entries. Where an importer-specific assessment rate is zero or de minimis, we will instruct CBP to liquidate the appropriate entries without regard to antidumping duties.

For Pioneer, Universal, and the non-examined companies granted separate rates, the ad valorem assessment rate will be equal to cash deposit rate assigned above in the final results of administrative review. We intend to instruct CBP to liquidate entries containing subject merchandise exported by the China-wide entity at the China-wide rate.

Pursuant to Commerce's assessment practice, for entries that were not reported in the U.S. sales databases submitted by Stanley during this review, Commerce will instruct CBP to liquidate such entries at the China-wide entity rate. Additionally, if Commerce determines that an exporter had no shipments of the subject merchandise, any suspended entries that entered under that exporter's case number (i.e., at that exporter's rate) will be liquidated at the China-wide entity rate.¹³

¹³ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of review; (2) for previously investigated or reviewed China and non-China exporters not listed above that have separate rates, the cash deposit rate will continue to be the exporter-specific rate published for the most recent period; (3) for all China exporters of subject merchandise which have not been found to be entitled to a separate rate, the cash deposit rate will be the China-Wide rate of 118.04 percent; and (4) for all non-China exporters of subject merchandise which have not received their own rate, the cash deposit rate will be the rate applicable to the China exporters that supplied that non-China exporter. The deposit requirements, when imposed, shall remain in effect until further notice.

Disclosure

We intend to disclose the calculations performed regarding these final results within five days of the date of publication of this notice to parties in this proceeding in accordance with 19 CFR 351.224(b).

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(1) and 777(i) of the Act, and 19 CFR 351.221(b)(5).

Dated: April 15, 2020.
Joseph Laroski,
Deputy Assistant Secretary for Policy and Negotiations.

Appendix I

China-Wide Entity

1. Air It on Inc.

2. A-Jax Enterprises Ltd.

3. A-Jax International Co. Ltd.

4. Anhui Amigo Imp.& Exp. Co. Ltd.

5. Anhui Tea Imp. & Exp. Co. Ltd.

6. Asiahan Industrial Trading Ltd.

7. Baoding Jieboshun Trading Co., Ltd.

8. Beijing Catic Industry Ltd.

9. Beijing Jinheung Co., Ltd.

10. Beijing Qin-Li Jeff Trading Co., Ltd.

11. Beijing Qin-Li Metal Industries Co., Ltd.

12. Bodi Corporation.

13. Cana (Rizhou) Hardward Co. Ltd.

14. Cangzhou Nandagang Guotai Hardware Products Co., Ltd.

15. Cangzhou Xinqiao Int'l Trade Co. Ltd.

16. Certified Products Taiwan Inc.

17. Changzhou Kya Trading Co. Ltd.

18. Chanse Mechatronics Scientech Development (Jiangsu) Inc.

19. Chia Pao Metal Co. Ltd.

20. China Dinghao Co. Ltd.

21. China Staple Enterprise Co. Ltd.

22. Chinapack Ningbo Imp. & Exp. Co. Ltd.

23. Chite Enterprise Co. Ltd.

24. Chonyi International Co. Ltd.

25. Crelux Int'l Co. Ltd.

26. Daejin Steel Co. Ltd.

27. Dingzhou Baota Metal Products Co. Ltd.

28. Dong E Fuqiang Metal Products Co. Ltd.

29. Dream Rising Co., Ltd.

30. Eco-Friendly Floor Ltd.

31. Ejen Brother Limited.

32. Everglow Inc.

33. Everleading International Inc.

34. Faithful Engineering Products Co. Ltd.

35. Fastening Care.

36. Fastgrow International Co. Inc.

37. Foshan Hosontool Development Hardware Co. Ltd.

38. GD CP International Ltd.

39. GDCP International Co., Ltd.

40. Glori-Industry Hong Kong Inc.

41. Guangdong Meite Mechanical Co. Ltd.

42. Guangdong TC Meite Intelligent Tools Co., Ltd.

43. Hangzhou Orient Industry Co., Ltd.

44. Hebei Jindun Trade Co., Ltd.

45. Hebei Minghao Imp. & Exp. Co. Ltd.

46. Hengtuo Metal Products Co. Ltd.

47. Home Value Co., Ltd.

48. Hongkong Shengshi Metal Products Co., Ltd.

49. Hongyi (HK) Hardware Products Co. Ltd.

50. Huaiyang County Yinfeng Plastic Factory.

51. Hualude International Development Co. Ltd.

52. Huanghua Haixin Hardware Products Co., Ltd.

53. Huanghua Yingjin Hardware Products.

54. Inmax Industries Sdn. Bhd.

55. ITW Construction Products.

56. Jade Shuttle Enterprise Co. Ltd.

57. Jiang Men City Yu Xing Furniture Limited Company.

58. Jiangsu General Science Technology Co. Ltd.

59. Jiangsu Holly Corporation.

60. Jiangsu Huaiyin Guex Tools.

61. Jiangsu Inter-China Group Corp.

62. Jiangu Soho Honry Imp. and Exp. Co. Ltd.

63. Jiaxing TSR Hardware Inc.

64. Jinsco International Corp.

65. Jinsheung Steel Corporation.

66. Koram Inc.

67. Korea Wire Co. Ltd.

68. Liang's Ind. Corp.

69. Liaocheng Minghui Hardware Products.

70. Linyi FlyingArrow Imp. & Exp. Co Ltd.

71. M&M Industries Co., Ltd.

72. Maanshan Lilai International Trade Co. Ltd.

73. Max Co., Ltd.

74. Milkway Chemical Supply Chain Service Co., Ltd.

75. Mingguang Abundant Hardware Products Co. Ltd.

76. Modern Factory For Metal Products.

77. Nailtech Co. Ltd.

78. Nanjing Nuochun Hardware Co. Ltd.

79. Nanjing Tianxingtong Electronic Technology Co. Ltd.

80. Nanjing Tianyu International Co. Ltd.

81. Nanjing Toua Hardware & Tools Co. Ltd.

82. Nanjing Zeejoe International Trade.

83. Nantong Intlevel Trade Co., Ltd.

84. Natuzzi China Limited.

85. Nielsen Bainbridge LLC.

86. Ningbo Adv. Tools Co. Ltd.

87. Ningbo Angelar Trading Co., Ltd.

88. Ningbo Fine Hardware Production Co. Ltd.

89. Ningbo Freewill Imp. & Exp Co., Ltd.

90. Ningbo Langyi Metal Products Co., Ltd.

91. Ningbo Sunrise International Ltd.

92. Ningbo WePartner Imp. & Exp. Co., Ltd.

93. Overseas Distribution Services Inc.

94. Overseas International Steel Industry.

95. Paslode Fasteners Co. Ltd.

96. Patek Tool Co. Ltd.

97. President Industrial Inc.

98. Promising Way (Hong Kong) Ltd.

99. Qingda Jisco Co. Ltd.

100. Qingdao Ant Hardware Manufacturing Co. Ltd.

101. Qingdao D&L Hardware Co. Ltd.

102. Qingdao Gold Dragon Co. Ltd.

103. Qingdao Hongyuan Nail Industry Co. Ltd.

104. Qingdao JCD Machinery Co., Ltd.

105. Qingdao Meijialucky Industry and Co.

106. Qingdao MST Industry and Commerce Co. Ltd.

107. Qingdao Powerful Machinery Co., Ltd.

108. Qingdao Top Metal Industrial Co., Ltd.

109. Qingdao Top Steel Industrial Co. Ltd.

110. Qingdao Uni-Trend International.

111. Quzhou Monsoon Hardware Co. Ltd.

112. Rise Time Industrial Ltd.

113. Romp Coil Nail Industries Inc.

114. R-Time Group Inc.

115. Ruifeng Hardware Products Co., Ltd.

116. Senco Asia Manufacturing Ltd.

117. Shandong Dinglong Imp. & Exp. Co., Ltd.

118. Shandong Liaocheng Minghua Metal Pvt. Ltd.

119. Shanghai Cedargreen Imp. & Exp. Co., Ltd.

120. Shanghai Curvet Hardware, Co., Ltd.

121. Shanghai Haoray International Trade Co. Ltd.

122. Shanghai Seti Enterprise Int'l Co. Ltd.

123. Shanghai Sutek Industries Co., Ltd.

124. Shanghai Yiren Machinery Co., Ltd.

125. Shanghai Yueda Fasteners Co., Ltd.

126. Shanghai Yueda Nails Co. Ltd.

127. Shanghai Zoonlion Industrial Co., Ltd.

128. Shanxi Easyfix Trade Co. Ltd.

129. Shanxi Xinjintai Hardware Co., Ltd.

130. Shaoxing Chengye Metal Producing Co. Ltd.

131. Shenzhen Xinjintai Hardware Co. Ltd.

132. Sueyi International Ltd.

133. Sumec Machinery and Electric Co., Ltd.

134. Suzhou Xingya Nail Co. Ltd.

135. Taizhou Dajiang Ind. Co. Ltd.

136. Test-Rite International Co., Ltd.

137. Theps International.

138. Tianji Hweschun Fasteners Manufacturing Co. Ltd.

139. Tianjin Baisheng Metal Products Co. Ltd.

140. Tianjin Bluekin Indusries Ltd.

141. Tianjin Coways Metal Products Co. Ltd.

142. Tianjin Dagang Jingang Nail Factory.

143. Tianjin Evangel Imp. & Exp. Co. Ltd.

144. Tianjin Fulida Supply Co. Ltd.

145. Tianjin Huixingshangmao Co. Ltd.

146. Tianjin Jin Xin Sheng Long Metal Products Co. Ltd.

147. Tianjin Jinghai Yicheng Metal Pvt.

148. Tianjin Jinlin Pharmaceutical Factory.

149. Tianjin Jinmao Imp. & Exp. Corp. Ltd.

150. Tianjin Lianda Group Co. Ltd.

151. Tianjin Liweitian Metal Technology

152. Tianjin Tianhua Environmental Plastics Co. Ltd.

153. Tianjin Yong Sheng Towel Mill.

154. Tianjin Yongye Furniture Co. Ltd.

155. Tianjin Zhonglian Times Technology.

156. Tianjin Zhongsheng Garment Co. Ltd.

157. Tinjin Tiaolai Import & Export Company Ltd.

158. Tsugaru Enterprise Co., Ltd.

159. Unicorn Fasteners Co. Ltd.

160. Verko Incorporated.

161. Win Fasteners Manufactory (Thailand) Co. Ltd.

162. Wire Products Manufacturing Co., Ltd.

163. Wulian Zhanpeng Metals Co. Ltd.

164. Xiamen Zhaotai Industrial Corp.

165. Yongchang Metal Product Co.

166. Youngwoo Fasteners Co., Ltd.

167. Yuyao Dingfeng Engineering Co. Ltd.

168. Zhanghaiding Hardware Co., Ltd.

169. Zhangjiagang Longxiang Industries Co. Ltd.

170. Zhaoqing Harvest Nails Co. Ltd.

171. Zhejiang Best Nail Industry Co. Ltd.

172. Zhejiang Jihengkang (JHK) Door Ind. Co. Ltd.

173. Zhejiang Saiteng New Building Materials Co., Ltd.

174. Zhejiang Yiwu Yongzhou Imp. & Exp. Co. Ltd.

175. Zhong Shan Daheng Metal Products Co. Ltd.

176. Zhong Shan Shen Neng Metals Products Co. Ltd.

177. Zhucheng Jinming Metal Products Co. Ltd.

178. Zhucheng Runfang Paper Co. Ltd.

179. Beijing Camzone Industry & Trading Co., Ltd.

180. Qingdao YuanYuan Metal Products LLC

181. Shanxi Fastener & Hardware Products

Appendix II

List of Topics Discussed in the Issues and Decision Memorandum

I. Summary

II. Background

III. Scope of the Order

IV. Discussion of the Issues

Comment 1: Sample Rate Calculation Methodology

Comment 2: Surrogate Financial Ratio Calculations

Comment 3: U.S. Selling Price and “Irrecoverable” Value Added Taxes

Comment 4: Stanley's Factors of Production (FOP) Database Error

Comment 5: Whether to Adjust Certain Movement Expenses

Comment 6: Whether Stanley B&D is Part of the China-Wide Entity

Comment 7: Application of Facts Available with Adverse Inferences

V. Recommendation

[FR Doc. 2020-08526 Filed 4-21-20; 8:45 a.m.]

BILLING CODE 3510-DS-P